DEPARTMENT OF LABOR

Occupational Safety and Health Administration

29 CFR Parts 1904 and 1902

[Docket No. OSHA-2013-0023]

RIN 1218-AC49

Improve Tracking of Workplace Injuries and Illnesses; Correction

AGENCY: Occupational Safety and Health Administration (OSHA), DOL.

ACTION: Final rule; correction.

SUMMARY: OSHA published in the Federal Register of May 12, 2016, a final rule revising its Recording and Reporting Occupational Injuries and Illnesses Regulation. In the rule, a paragraph was inadvertently removed. This document reinserts that paragraph.

DATES: Effective: August 10, 2016.

FOR FURTHER INFORMATION CONTACT: For press inquiries: Frank Meilinger, Office of Communications, Room N-3647, OSHA, U.S. Department of Labor, 200 Constitution Avenue NW., Washington, DC 20210; telephone (202) 693-1999; email: meilinger.francis2@dol.gov.

For general and technical information: Miriam Schoenbaum, Office of Statistical Analysis, Room N-3507, OSHA, U.S. Department of Labor, 200 Constitution Avenue NW., Washington, DC 20210; telephone (202)693-1841; email: schoenbaum.miriam@dol.gov.

SUPPLEMENTARY INFORMATION: OSHA published in the Federal Register of May 12, 2016, a final rule revising its Recording and Reporting Occupational Injuries and Illnesses regulation (92 FR 29624).

This document was prepared under the direction of David Michaels, Ph.D., MPH, Assistant Secretary of Labor for Occupational Safety and Health. It is issued under Sections 8 and 24 of the Occupational Safety and Health Act (29 U.S.C. 657, 673), Section 553 of the Administrative Procedure Act (5 U.S.C. 553), and Secretary of Labor's Order No. 41-2012 (77 FR 3912 (Jan. 25, 2012)).

Need for Correction

Inadvertently § 1904.35(b)(2) was designated as reserved. This document reinserts that paragraph.

In FR Rule Doc. No. 2016-10443 beginning on page 29624 in the issue of May 12, 2016, make the following correction:

On page 29692, in the first column, after the second paragraph, remove “(2) [Reserved].” and add the following in its place:

“(2) Do I have to give my employees and their representatives access to the OSHA injury and illness records? Yes, your employees, former employees, their personal representatives, and their authorized employee representatives have the right to access the OSHA injury and illness records, with some limitations, as discussed below.

(i) Who is an authorized employee representative? An authorized employee representative is an authorized collective bargaining agent of employees.

(ii) Who is a “personal representative” of an employee or former employee? A personal representative is:

(A) Any person that the employee or former employee designates as such, in writing; or

(B) The legal representative of a deceased or legally incapacitated employee or former employee.

(iii) If an employee or representative asks for access to the OSHA 300 Log, when do I have to provide it? When an employee, former employee, personal representative, or authorized employee representative asks for copies of your current or stored OSHA 300 Log(s) for an establishment the employee or former employee has worked in, you must give the requester a copy of the relevant OSHA 300 Log(s) by the end of the next business day.

(iv) May I remove the names of the employees or any other information from the OSHA 300 Log before I give copies to an employee, former employee, or employee representative? No, you must leave the names on the 300 Log. However, to protect the privacy of injured and ill employees, you may not record the employee's name on the OSHA 300 Log for certain “privacy concern cases,” as specified in § 1904.29(b)(6) through (9).

(v) If an employee or representative asks for access to the OSHA 301 Incident Report, when do I have to provide it? (A) When an employee, former employee, or personal representative asks for a copy of the OSHA 301 Incident Report describing an injury or illness to that employee or former employee, you must give the requester a copy of the OSHA 301 Incident Report containing that information by the end of the next business day.

(B) When an authorized employee representative asks for copies of the OSHA 301 Incident Reports for an establishment where the agent represents employees under a collective bargaining agreement, you must give copies of those forms to the authorized employee representative within 7 calendar days. You are only required to give the authorized employee representative information from the OSHA 301 Incident Report section titled “Tell us about the case.” You must remove all other information from the copy of the OSHA 301 Incident Report or the equivalent substitute form that you give to the authorized employee representative.

(vi) May I charge for the copies? No, you may not charge for these copies the first time they are provided. However, if one of the designated persons asks for additional copies, you may assess a reasonable charge for retrieving and copying the records.”

Signed at Washington, DC, on May 13, 2016.
David Michaels,
Assistant Secretary of Labor for Occupational Safety and Health.

[FR Doc. 2016-11817 Filed 5-19-16; 8:45 am]

BILLING CODE 4510-26-P